ENVIRONMENTAL PROTECTION AGENCY

40 CFR Part 710

[OPP-2005-0075; FRL-7744-8]

RIN-2070 AC61

TSCA Inventory Update Reporting Partially Exempted Chemicals List;Addition of 1,2,3-Propanetriol; Correction

AGENCY: Environmental Protection Agency (EPA).

ACTION: Final rule; correction.

SUMMARY: EPA issued a direct final rule in theFederal Register of October 17, 2005, to amend the Toxic Substances Control Act (TSCA) section 8(a) Inventory Update Reporting (IUR) regulations by adding 1,2,3-propanetriol (CASRN 56-81-5) to the list of chemical substances in 40 CFR 710.46(b)(2)(iv) which are exempt from reporting processing and use information required by 40 CFR 710.52(c)(4). The document incorrectly listed the section heading for § 710.46 in the regulatory text. This document is being issued to correct that error.

DATES: This final rule is effective on November 30, 2005.

ADDRESSES: Follow the detailed instructions as provided under the ADDRESSES unit in the Federal Register document of October 17, 2005.

FOR FURTHER INFORMATION CONTACT: Susan Sharkey, Project Manager, Economics, Exposure and Technology Division (7406M), Office of Pollution Prevention and Toxics, Environmental Protection Agency, 1200 Pennsylvania Ave., NW., Washington, DC 20460-0001; telephone number: (202) 564-8789; e-mail address: sharkey.susan­epa.gov.

SUPPLEMENTARY INFORMATION:

I. General Information

A. Does this Action Apply to Me?

The Agency included in the direct final rule a list of those who may be potentially affected by this action. If you have questions regarding the applicability of this action to a particular entity, consult the person listed under FOR FURTHER INFORMATION CONTACT.

B. How Can I Access Electronic Copies of this Document and Other Related Information?

In addition to using EDOCKET at http://www.epa.gov/edocket/, you may access this Federal Register document electronically through the EPA Internet under the “Federal Register” listings at http://www.epa.gov/fedrgstr/. A frequently updated electronic version of 40 CFR part 710 is available at E-CFR Beta Site Two at http://www.gpoaccess.gov/ecfr/.

II. What Does this Correction Do?

In FR Doc. 05-20771 appearing on page 60217, the following correction is made:

§ 710.46 [Corrected]

On page 60221 in the second column, the section heading for § 710.46 is corrected to read: “§ 710.46 Chemical substances for which information is not required.”

III. Why is this Correction Issued as a Final Rule?

Section 553 of the Administrative Procedure Act (APA), 5 U.S.C. 553(b)(B), provides that, when an Agency for good cause finds that notice and public procedure are impracticable, unnecessary or contrary to the public interest, the agency may issue a final rule without providing notice and an opportunity for public comment. EPA has determined that there is good cause for making today's technical correction final without prior proposal and opportunity for comment, because the use of notice and comment procedures are unnecessary to effectuate this correction. EPA finds that this constitutes good cause under 5 U.S.C. 553(b)(B).

IV. Do Any of the Statutory and Executive Order Reviews Apply to this Action?

No. This action only corrects an inadvertent error in the section heading of the regulatory text for a previously published final rule and does not impose any new requirements. EPA's compliance with the statutes and Executive Orders for the underlying rule is discussed in Unit V. of the October 17, 2005, direct final rule (70 FR 60217).

V. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 710

Environmental protection, Chemicals, Hazardous materials, 1,2,3-Propanetriol, Reporting and recordkeeping requirements.

Dated: November 7, 2005.
Charles M. Auer,
Director, Office of Pollution Prevention and Toxics.

[FR Doc. 05-23436 Filed 11-29-05; 8:45 am]

BILLING CODE 6560-50-S